DEPARTMENT OF ENERGY

Federal Energy Regulatory Commission

[Docket No. RP03-222-000]

Columbia Gas Transmission Corporation; Notice of Proposed Changes in FERC Gas Tariff

January 8, 2003.

Take notice that on December 31, 2002, Columbia Gas Transmission Corporation (Columbia) tendered for filing as part of its FERC Gas Tariff, Second Revised Volume No. 1, Thirteenth Revised Sheet No. 44, with a proposed effective date of February 1, 2003.

Columbia submits this Periodic RAM Filing pursuant to the provisions of section 35.2, “Retainage Adjustment Mechanism (RAM),” of the general terms and conditions of its Tariff. Thirteenth Revised Sheet No. 44 sets forth the retainage factors applicable to Columbia's transportation services, as revised by this filing. Pursuant to this filing, Columbia is proposing to adjust its transportation retainage percentage from 2.398% to 2.417%.

Columbia states that copies of its filing have been mailed to all firm customers, interruptible customers, and affected state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: January 13, 2003.

Magalie R. Salas,
Secretary.

[FR Doc. 03-747 Filed 1-13-03; 8:45 am]

BILLING CODE 6717-01-P